LIBRARY OF CONGRESS

[Docket No: 2020-01]

Public Input Regarding the Next Register of Copyrights

AGENCY: Library of Congress.

ACTION: Request for public input.

SUMMARY: The Library of Congress seeks public input on the expertise needed by the next Register of Copyrights and the top three priorities for the next Register. Public input will inform the Library's understanding of the knowledge, skills, and abilities that are most important in the selection of the next Register.

DATES: Interested persons are invited to provide input by March 20, 2020.

ADDRESSES: You may provide input at the Library of Congress website: https://www.loc.gov/about/librarian-of-congress-seeks-input-on-register-of-copyrights/.

FOR FURTHER INFORMATION CONTACT: April V. Slayton, Director of Communications, (202) 707-0020, aslayton@loc.gov.

SUPPLEMENTARY INFORMATION: (17 U.S.C. 701).

Dated: February 26, 2020.
Carla Hayden,
Librarian of Congress.

[FR Doc. 2020-04247 Filed 3-2-20; 8:45 am]

BILLING CODE 1410-10-P